DEPARTMENT OF AGRICULTURE

Submission for OMB Review; Comment Request

November 24, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 30, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: WIC Nutrition Assessment and Tailoring Study.

OMB Control Number: 0584-NEW.

Summary of Collection: This is a new information collection for the WIC Nutrition Assessment and Tailoring Study that will collect data concerning the nutrition assessment process used by local agencies in the Supplemental Nutrition Program for Women, Infants, and Children (WIC) to identify nutrition risks and apply that information to the tailoring of participant benefits. This study will provide the Food and Nutrition Service (FNS) with a comprehensive, detailed description of the WIC nutrition risk assessment process and explore the ways in which WIC clinics tailor participant benefits to address the results of the assessment. It will also evaluate the relationship between this process and participant program satisfaction. This study is an FNS priority resulting from policy changes from the publication in 2006 of the “Value Enhanced Nutrition Assessment (VENA) in WIC: The First Step in Quality Nutrition Services” and the publication in October 2009 of the interim final rule, “Revisions in the WIC Food Packages,” both of which affected the nutrition assessment or nutrition services process. Section 28 of the Richard B. Russell National School Lunch Act as amended by the Healthy, Hunger-Free Kids Act of 2010 (Pub. L. 111-296, Section 305) provides the general statutory authority for this study.

Need and Use of the Information: This voluntary study will collect data from state and local government respondents in WIC State and Local Agencies, and in WIC clinics; businesses and other for-profit and non-profit institutions in the form of WIC Local Agencies and WIC clinics, and WIC Participants. FNS will use the information gathered from this study to inform program guidance and technical assistance related to the nutrition assessment process to support the implementation of best practices that meet the goals ensuring satisfaction with the program experience, promoting self-sufficiency, and improving the nutrition and health of women and children who participate in WIC. The study will identify specific practices or features of the nutrition services process associated with participant and staff satisfaction, reduced staff burden, and improved efficiency and will also provide FNS with a comprehensive, detailed description of the WIC nutrition risk assessment process, including how WIC staff apply the process to tailoring participant benefits.

FNS published a notice on Friday, July 19, 2019, in the Federal Register, Volume 84, Number 139, pages 34849 to 34858, and provided a 60-day period for public comments. This collection has not changed significantly since the publication of the 60-Day Notice. FNS made some updates to their accounting of burden to streamline the burden table. These changes did decrease the number of responses, but the burden hours only increased slightly. There was a delay to submit this collection due to: (1) The high number of regulations which FNS is trying to issue by the end of the year, each of which includes associated Information Collection Request (ICRs) and (2) COVID-19 rated Emergency ICRs and Guidance Documents which necessitate priority attention.

Description of Respondents: State, Local, or Tribal Government; businesses or other for-profit, non-profit institutions, and individuals or households.

Number of Respondents: 1,454.

Frequency of Responses: Reporting: One-time only.

Total Burden Hours: 870.

Ruth Brown,
Departmental Information Collection Clearance Officer.

[FR Doc. 2020-26304 Filed 11-27-20; 8:45 am]

BILLING CODE 3410-30-P